DEPARTMENT OF STATE

[Public Notice 6476]

Certification Related to Libya Under Section 654(b) of the State, Foreign Operations, and Related Programs Appropriations Act, 2008 (Div. J. Pub. L. 110-161)

Summary: The Secretary of State certified to the Committees on Appropriation on December 24, 2008 that Libya has met the requirements stipulated in Section 654(b) of the State, Foreign Operations, and Related Programs Appropriations Act of 2008.

Dated: January 2, 2009.
Jeffrey Feltman,
Acting Assistant Secretary of State for Near Eastern Affairs, Department of State.

[FR Doc. E9-126 Filed 1-7-09; 8:45 am]

BILLING CODE 4710-31-P